Proclamation 8774 of January 13, 2012

Religious Freedom Day, 2012

By the President of the United States of America

A Proclamation

For nearly four centuries, men and women have immigrated to America’s shores in pursuit of religious freedom. Hailing from diverse backgrounds and faiths, countless settlers have shared a simple aspiration—to practice their beliefs free from prejudice and persecution. In 1786, the Virginia General Assembly took a bold step toward preserving this fundamental liberty by passing the Virginia Statute for Religious Freedom, which brought to life the ideal of religious tolerance from the texts of the Enlightenment in the laws of state. On Religious Freedom Day, we celebrate this historic milestone, reflect upon the Statute’s declaration that “Almighty God hath created the mind free,” and reaffirm that the American people will remain forever unshackled in matters of faith.

Drafted by Thomas Jefferson, the Virginia Statute formed the basis for the First Amendment, which has preserved religious freedom for both believers and non-believers for over 220 years. As our Nation has grown, so too has its diversity of faiths, cultures, and traditions; today, individuals of rich and varied beliefs call America home and seek to follow their consciences in peace. Our long history of religious tolerance and pluralism has strengthened our country, helped create a vibrant civil society, and remained true to the principles enshrined in our founding documents.

Our Nation is committed to religious liberty not only for all Americans, but also for individuals around the world. Internationally, we bear witness to those who live in fear of violence and discrimination because of their beliefs. My Administration continues to stand with all who are denied the ability to choose, express, or live their faith freely, and we remain dedicated to protecting this universal human right and the vital role it plays in ensuring peace and stability for all nations.

Today, as we reflect on the many ways religious freedom enriches our country and our lives, let us lend our voice to all people striving to exercise their innate right to a free mind.

NOW, THEREFORE, I, BARACK OBAMA, President of the United States of America, by virtue of the authority vested in me by the Constitution and the laws of the United States, do hereby proclaim January 16, 2012, as Religious Freedom Day. I call on all Americans to commemorate this day with events and activities that teach us about this critical foundation of our Nation’s liberty, and show us how we can protect it for future generations at home and around the world.

IN WITNESS WHEREOF, I have hereunto set my hand this thirteenth day of January, in the year of our Lord two thousand twelve, and of the Independence of the United States of America the two hundred and thirty-sixth.

[FR Doc. 2012-1194

Filed 1-19-12; 8:45 am]

Billing code 3295-F2-P